DEPARTMENT OF COMMERCE

National Oceanic and Atmospheric Administration

[I.D. 062201A]

Endangered Species; Permits

AGENCY: National Marine Fisheries Service (NMFS), National Oceanic and Atmospheric Administration (NOAA), Commerce.

ACTION: Issuance of permits 1260, 1262 and 1135; Issuance of an amendment to scientific research/enhancement permit 1177.

SUMMARY: Notice is hereby given of the following actions regarding permits for takes of endangered and threatened species for the purposes of scientific research and/or enhancement under the Endangered Species Act (ESA): NMFS has issued permit 1262 to Dr. Cindy Driscoll, of Maryland Department of Natural Resources; permit 1260 to Dr. Joseph Powers, of NMFS - Southeast Regional Office; permit 1133 to the Columbia River Research Laboratory of the U.S. Geological Survey at Cook, WA (USGS) and NMFS has issued an amendment to scientific research/enhancement permit 1177 to the U.S. Army Corps of Engineers, Portland District in Portland, OR (Corps).

ADDRESSES: The applications and related documents are available for review in the indicated office, by appointment:

For permits 1260, 1262: Endangered Species Division, F/PR3, 1315 East West Highway, Silver Spring, MD 20910 (phone:301-713-1401, fax: 301-713-0376).

For permits 1177, 1135: Protected Resources Division, F/NWO3, 525 NE Oregon Street, Suite 500, Portland, OR 97232-2737 (phone: 503-230-5400, fax: 503-230-5435).

Documents may also be reviewed by appointment in the Office of Protected Resources, F/PR3, NMFS, 1315 East-West Highway, Silver Spring, MD 20910-3226 (phone:301-713-1401).

FOR FURTHER INFORMATION CONTACT: For permits 1260, 1262: Terri Jordan, Silver Spring, MD (phone: 301-713-1401, fax: 301-713-0376, e-mail: Terri.Jordan@noaa.gov)

For permit 1135: Robert Koch, Portland, OR (ph: 503-230-5424, fax: 503-230-5435, e-mail: Robert.Koch@noaa.gov).

For permit 1177: Leslie Schaeffer, Portland, OR (phone: 503-230-5433, fax: 503-230-5435, e-mail: Leslie.Schaeffer@noaa.gov).

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Scientific research and/or enhancement permits are issued under Section 10(a)(1)(A) of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice

The following species and evolutionarily significant units (ESU's) are covered in this notice:

Sea turtles

Threatened and endangered Green turtle (Chelonia mydas)

Endangered Hawksbill turtle (Eretmochelys imbricata)

Endangered Kemp's ridley turtle (Lepidochelys kempii)

Endangered Leatherback turtle (Dermochelys coriacea)

Threatened Loggerhead turtle (Caretta caretta)

Fish

Coho salmon (Oncorhynchus kisutch): threatened Southern Oregon/Northern California Coasts (SONCC).

Steelhead trout (Oncorhynchus mykiss): threatened lower Columbia River (LCR)

Permits and Modified Permits Issued

Permit 1260

Notice was published on August 31, 2000 (65 FR 52988), that Dr. Joseph Powers, of SERO applied for a scientific research permit (1260). The applicant has requested a 4-year permit to take listed sea turtles in the coastal waters of the Atlantic Ocean and Gulf of Mexico. The research conducted in these areas support the National Marine Fisheries Service sea turtle recovery program. Research activities include: directed in water research, aerial surveys, resource surveys, and fishery technology testing and implementation. Leatherback, loggerhead, green, hawksbill and Kemp's ridley sea turtles are the focus of the recovery efforts in the southeast region. Permit 1260 was issued on June 18, 2001, authorizing take of listed species. Permit 1260 expires April 1, 2004.

Permit 1262

Notice was published on August 17, 2000 (65 FR 50185), that Dr. Cindy Driscoll, of MD Department of Natural Resources applied for a scientific research permit (1262). The applicant has requested a 5-year permit to take 50 loggerhead, 30 Kemp's ridley, 10 leatherback, 5 green and 5 hawksbill turtles from the upper and middle Chesapeake Bay for scientific research purposes. Each turtle would be captured, handled, measured, weighed, tagged, and have biological samples (tissue and blood) collected and then released. Yearly sampling would occur from May to November. Permit 1262 was issued on June 19, 2001, authorizing take of listed species. Permit 1262 expires July 31, 2006.

Permit 1135

Notice was published on March 2, 1998 (63 FR 10198), that USGS applied for a scientific research permit (1135). Permit 1135 was issued to USGS on June 18, 2001. Permit 1135 authorizes USGS an annual take of adult and juvenile, threatened, LCR steelhead associated with research designed to provide information on the survival rates, growth rates, habitat use, population densities, fish health, and life history diversity of steelhead in the Wind River Basin of southern Washington. The research will provide information that will assist state, tribal, and Federal managers in their effort to restore LCR steelhead populations and their habitats in the Wind River Basin. ESA-listed adult and juvenile steelhead will be observed/harassed during snorkel surveys and during habitat surveys at selected sites in the Wind River Basin. ESA-listed juvenile steelhead will also be collected using a backpack electrofisher, anesthetized, sampled for biological data (length, weight, disease status) and tissues/scales, allowed to recover from the anesthesia, and released. Indirect mortalities associated with the research are authorized. In addition, ESA-listed juvenile steelhead will be taken lethally for pathological analyses. Permit 1135 expires on December 31, 2002.

Permit 1177

NMFS has issued an amendment to the Corps’ scientific research/enhancement permit to extend the permit through June 30, 2003. The permit was due to expire on June 30, 2001. The permit authorizes take of adult and juvenile, threatened, SONCC coho salmon associated with scientific research and an adult fish trap-and-haul program at Elk Creek Dam on the Rogue River in OR. The purpose of the trap-and-haul program is to move returning ESA-listed adult fish above Elk Creek Dam, an impassable barrier for adult salmonids, so that the fish may use the habitat upstream of the dam for natural spawning. To determine the annual spawning success of the fish upstream of the dam, ESA-listed juvenile fish will be observed by snorkeling. In addition, ESA-listed adult fish carcasses will be examined for evidence of spawning and immediately returned to the stream. Permit 1177 expires on June 30, 2003.

Dated: June 22, 2001.
Phil Williams,
Acting Chief, Endangered Species Division, Office of Protected Resources, National Marine Fisheries Service.

[FR Doc. 01-16466 Filed 6-28-01; 8:45 am]

BILLING CODE 3510-22-S